CONSUMER PRODUCT SAFETY COMMISSION

Sunshine Act Meetings

AGENCY: U.S. Consumer Product Safety Commission.

FEDERAL REGISTER CITATION OF PREVIOUS ANNOUNCEMENT: Vol. 78, No. 7, Thursday, January 10, 2013, page 2257.

ANNOUNCED TIME AND DATE OF MEETING: Wednesday, January 16, 2013, 10 a.m.-11 a.m.

MEETING CANCELED. For a recorded message containing the latest agenda information, call (301) 504-7948.

CONTACT PERSON FOR ADDITIONAL INFORMATION: Todd A. Stevenson, Office of the Secretary, 4330 East West Highway, Bethesda, MD 20814 (301) 504-7923.

Dated: January 15, 2013.
Todd A. Stevenson,
Secretary.

[FR Doc. 2013-01082 Filed 1-15-13; 4:15 pm]

BILLING CODE 6355-01-P